NATIONAL TRANSPORTATION SAFETY BOARD

Office of the Managing Director: Strategic Management Program, Fiscal Year 2022-2026 Strategic Plan

AGENCY: National Transportation Safety Board.

ACTION: Notice: request for comments.

SUMMARY: This notice is in accordance with OMB Circular A-11, section 210.3 (b), Consultation and Outreach, which requires the NTSB to solicit comments on the proposed strategic plan to be published by February 2022. All interested parties are invited to submit comments regarding this proposed strategic plan. As background, the NTSB's 2020-2024 strategic plan was published in December 2019. This proposed document updates that plan, incorporating revised and expanded goals and objectives for the continuation of the 2020-2024 plan. We continued evaluating baseline performance metrics for the three goals. Some goals have been adjusted to reflect results from the previous plan's activities. These expanded strategic objectives help measure the agency's overall success. You can view a copy of the draft strategic plan on the NTSB website at: Strategic Plans & Reports (ntsb.gov) https://www.ntsb.gov/about/reports/Documents/Draft-FY-22-26-Strategic-Plan-FedReg.pdf.

DATES: Parties should submit comments on or before December 7, 2021.

ADDRESSES: Submit electronic comments to strategicplan@ntsb.gov or at http://regulations.gov. Submit written comments by regular mail to the National Transportation Safety Board, 490 L'Enfant Plaza SW, Washington, DC 20594. Attn: MD-1, Strategic Initiatives.

FOR FURTHER INFORMATION, CONTACT: John DeLisi, Senior Advisor for Policy and Strategic Initiatives, National Transportation Safety Board, 490 L'Enfant Plaza SW, MD-1, Washington, DC 20594, 202-314-6000.

Jennifer Homendy,
Chair.

[FR Doc. 2021-25587 Filed 11-23-21; 8:45 am]

BILLING CODE 7533-01-P